CONSUMER FINANCIAL PROTECTION BUREAU

[Docket No. CFPB-2025-0006]

Agency Information Collection Activities: Comment Request

AGENCY: Consumer Financial Protection Bureau.

ACTION: Notice and request for comment.

SUMMARY: In accordance with the Paperwork Reduction Act of 1995 (PRA), the Consumer Financial Protection Bureau (CFPB) requests the Office of Management and Budget's (OMB's) approval of an information collection titled “Auto Loan Survey.”

DATES: Written comments are encouraged and must be received on or before March 18, 2025 to be assured of consideration.

ADDRESSES: You may submit comments, identified by the title of the information collection, OMB Control Number (see below), and docket number (see above), by any of the following methods:

• Federal eRulemaking Portal: http://www.regulations.gov. Follow the instructions for submitting comments.

• Email: CFPB_PRA@cfpb.gov. Include Docket No. CFPB-2025-0006 in the subject line of the email.

• Mail/Hand Delivery/Courier: Comment Intake, Consumer Financial Protection Bureau (Attention: PRA Office), 1700 G Street, NW, Washington, DC 20552. Because paper mail in the Washington, DC area and at the CFPB is subject to delay, commenters are encouraged to submit comments electronically.

Please note that comments submitted after the comment period will not be accepted. In general, all comments received will become public records, including any personal information provided. Sensitive personal information, such as account numbers or Social Security numbers, should not be included.

FOR FURTHER INFORMATION CONTACT: Requests for additional information should be directed to Anthony May, PRA Officer, at (304) 481-5511, or email: CFPB_PRA@cfpb.gov. If you require this document in an alternative electronic format, please contact CFPB_Accessibility@cfpb.gov. Please do not submit comments to these email boxes.

SUPPLEMENTARY INFORMATION:

Title of Collection: Auto Loan Survey.

OMB Control Number: 3170-00XX.

Type of Review: New information collection.

Affected Public: Individuals or households.

Estimated Number of Respondents: 5,060.

Estimated Total Annual Burden Hours: 1,670.

Abstract: Under the Dodd-Frank Wall Street Reform and Consumer Protection Act, the Consumer Financial Protection Bureau (CFPB) is charged with researching, analyzing, and reporting on topics relating to the CFPB's mission, including consumer behavior, consumer awareness, and developments in markets for consumer financial products and services. To improve its understanding of how consumers engage with financial markets, the CFPB has successfully used credit record data as a sampling frame to survey people about their experiences in consumer credit markets.

The CFPB seeks approval for a new survey of auto loan borrowers. The survey will use the CFPB's Consumer Credit Information Panel (CCIP) as the sampling frame. This survey will solicit information on the consumer's experience related to auto purchases and loans including choosing a vehicle and financing, experiences with major vehicle expenses, experiences with loan servicing, and, if applicable, loan modification and repossession. This survey will augment the auto finance data pilot and linked CCIP data by providing information not available in either source such as consumer demographics, household income and assets, income or expense shocks, understanding of the auto financing market, expectations, and self-reported experiences with auto-loan origination and servicing. The survey will follow similar methods as in the CFPB's prior Making Ends Meet Survey (approved under OMB Control Number 3170-0066) and Student Loan Survey (approved under OMB Control Number 3170-0078) but sample a different population of borrowers and focus primarily on auto loans. The CFPB expects to recruit about 23,000 participants to participate in the survey.

Request for Comments: Comments are invited on: (a) Whether the collection of information is necessary for the proper performance of the functions of the CFPB, including whether the information will have practical utility; (b) The accuracy of the CFPB;s estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB's approval. All comments will become a matter of public record.

Anthony May,
Paperwork Reduction Act Officer, Consumer Financial Protection Bureau.

[FR Doc. 2025-01142 Filed 1-16-25; 8:45 am]

BILLING CODE 4810-AM-P